DEPARTMENT OF HEALTH AND HUMAN SERVICES

Food and Drug Administration

[Docket No. 99N-1168]

Relative Risk to Public Health From Foodborne Listeria Monocytogenes Among Selected Categories of Ready-to-Eat Foods; Draft Risk Assessment Document and Risk Management Action Plan; Public Meeting

AGENCY: Food and Drug Administration, HHS.

ACTION: Notice of public meeting.

The Food and Drug Administration (FDA), in cooperation with the Food Safety and Inspection Service (FSIS) of the U.S. Department of Agriculture (USDA), and the Centers for Disease Control and Prevention is announcing the following public meeting: Relative Risk to Public Health from Foodborne Listeria Monocytogenes Among Selected Categories of Ready-to-Eat Foods; Draft Risk Assessment Document and Risk Management Action Plan. The purpose of the public meeting is to receive comments on the technical aspects of a draft risk assessment on the relationship between foodborne Listeria monocytogenes and human health, and on a proposed risk management action plan for L. monocytogenes. A notice of availability of the draft risk assessment and the action plan was published in the Federal Register of January 19, 2001 (66 FR 5515).

Date and Time: The meeting will be held on March 19, 2001, 8:30 a.m. to 4 p.m.

Location: The meeting will be held at the Hilton Hotel, 2399 Jefferson Davis Hwy., Arlington, VA 22202.

Contact: Catherine M. DeRoever, Center for Food Safety and Applied Nutrition (HFS-6), Food and Drug Administration, 200 C St. SW., Washington, DC 20204, 202-205-4251, FAX 202-205-4970, e-mail: cderoeve@cfsan.fda.gov.

Registration and Requests for Oral Presentations: Send registration information (including name, title, firm name, address, telephone, and fax number), to the contact person by March 14, 2001. Interested persons may present data, information, or views orally or in writing, on the issues identified above. Written submissions must also be made to the contact person by March 14, 2001. Time allotted for each presentation may be limited. If you wish to make a formal oral presentation, you should notify the contact person before March 14, 2001, and be prepared to provide a brief statement of the general nature of the evidence you wish to present.

If you need special accommodations due to a disability, please contact Catherine M. DeRoever (address above) at least 7 days in advance.

Transcripts: Transcripts of the meeting may be requested in writing from the Freedom of Information Office (HFI-35), Food and Drug Administration, 5600 Fishers Lane, rm. 12A-16, Rockville, MD 20857, approximately 15 working days after the meeting at a cost of 10 cents per page.

SUPPLEMENTARY INFORMATION: The U. S. Department of Health and Human Services and the USDA are seeking comments on the technical aspects of the draft risk assessment in the following areas: (1) The assumptions made, (2) the modeling technique, (3) the data used, and (4) the transparency of the draft risk assessment document. All public comments will be reviewed and evaluated, and the assessment will be modified, as appropriate. The agencies are also inviting comments on the risk management strategies as presented in the draft action plan.

Dated: February 28, 2001.
Ann M Witt,
Acting Associate Commissioner for Policy.

[FR Doc. 01-5379 Filed 3-1-01; 4:23 pm]

BILLING CODE 4160-01-S